DEPARTMENT OF AGRICULTURE

Forest Service

Apache-Sitgreaves National Forests, Apache, Greenlee and Navajo Counties, AZ; Apache-Sitgreaves National Forests Public Motorized Travel Management Plan

AGENCY: Forest Service, USDA.

ACTION: Notice of intent to prepare an environmental impact statement; Correction.

SUMMARY: On October 10, 2007, the Federal Register published a Notice of Intent (NOI) to prepare an Environmental Impact Statement (EIS) for the Motorized Travel Management Plan on the Apache-Sitgreaves National Forests (72 FR 57514-57517). That document indicated that the proposed transportation system is depicted in detail on the Apache-Sitgreaves National Forests Travel Management Plan Proposed Action Map located on the Forests Web site and that the Forests transportation system open to motorized travel under this proposal would be approximately 2,892 miles. Correction of both of these statements is necessary.

Correction: In the Federal Register of October 10, 2007, in FR Doc. 72-195, on page 57515, correct the proposed Action caption, second column, last paragraph, first and second sentence to read:

The Forests transportation system open to motorized travel under this proposal would be approximately 2868 miles. This is a change of approximately 78 miles from the existing condition of approximately 2,946 open miles.

In the Federal Register of October 10, 2007, in FR Doc. 72-195, on page 57515, correct the Proposed Action caption, third column, second paragraph, first sentence to read:

The proposed motorized public transportation system maps will be available for your review, prior to the public meetings, on the Forests Web Site: http://www.fs.fed.us/r3/asnf/projects/travel-management.shtml.

FOR FURTHER INFORMATION CONTACT: Jim Copeland, Travel Management Team Leader at (928) 333-4301/(928) 339-4384.

Dated: October 24, 2007.
Elaine Zieroth,
Forests Supervisor, Apache-Sitgreaves National Forests.

[FR Doc. 07-5396 Filed 10-30-07; 8:45 am]

BILLING CODE 3410-11-M